DEPARTMENT OF AGRICULTURE

Agricultural Marketing Service

7 CFR Part 983

[Docket No. FV02-983-1 FR]

Pistachios Grown in California; Delay of the Effective Date for Aflatoxin, Size and Quality Requirements

AGENCY: Agricultural Marketing Service, USDA.

ACTION: Final rule; delay of effective date.

SUMMARY: This document delays the effective date from February 1, 2005, to August 1, 2005, for aflatoxin, size and quality requirements established under Marketing Order No. 983 (order). The order regulates the handling of pistachios produced in California. Sections 983.38 through 983.45 of the order establish maximum aflatoxin along with minimum size and quality requirements for California pistachios. The Administrative Committee for Pistachios, which is responsible for locally administering the order, recommended the delay in the effective date. Postponing the effective date of the regulations will provide the industry and the newly established administrative committee with additional preparation time needed to meet the aflatoxin, size and quality requirements of the order. Also, the postponed effective date would correspond with the beginning of the 2005 crop year.

DATES: The effective date of §§ 983.38 through 983.45 of 7 CFR part 983 published at 69 FR 17844 is delayed until August 12, 2005.

FOR FURTHER INFORMATION CONTACT: Melissa Schmaedick, Marketing Specialist, Marketing Order Administration Branch, Fruit and Vegetable Programs, AMS, USDA, P.O. Box 1035, Moab, Utah 84532; telephone: (435) 259-7988, Fax: (435) 259-4945; or Rose Aguayo, Marketing Specialist, California Marketing Field Office, Marketing Order Administration Branch, Fruit and Vegetable Programs, AMS, USDA, 2202 Monterey Street, suite 102B, Fresno, California 93721; telephone: (559) 487-5901, Fax: (559) 487-5906.

Small businesses may request information on complying with this regulation by contacting Jay Guerber, Marketing Order Administration Branch, Fruit and Vegetable Programs, AMS, USDA, 1400 Independence Avenue, SW., STOP 0237, Washington, DC 20250-0237; telephone: (202) 720-2491, Fax: (202) 720-8938, or e-mail: Jay.Guerber@usda.gov.

SUPPLEMENTARY INFORMATION: This document delays the effective date from February 1, 2005, to August 1, 2005, for aflatoxin, size and quality provisions established under Marketing Order No. 983 (order). The order, which became effective in April 2004, regulates the handling of pistachios produced in California. Sections 983.38 through 983.45 of the order establish maximum aflatoxin along with minimum size and quality requirements for California pistachios, and were scheduled to become effective on August 1, 2004.

The Administrative Committee for Pistachios (Committee) recommended the delay in the effective date at a December 8, 2004, meeting. The Committee voted unanimously that postponing the effective date will provide the industry and the Committee with additional time to establish rules, regulations, and program procedures needed to implement the aflatoxin, size and quality requirements of the order. Rules, regulations and program procedures are recommended by the Committee, which is responsible for locally administering the order, for approval by the Secretary. Postponing the effective date of the order's regulatory provisions will allow the new Committee time to become more established and actively participate in implementing the order.

Also, the postponed effective date would correspond with the beginning of the 2005 crop year. Given that the California pistachio marketing order is a newly established regulatory program, the Agricultural Marketing Service deems that the coordination of program reporting and recordkeeping requirements with the beginning of the program's fiscal and crop year as important to successful implementation of the order.

Thus, the effective date of §§ 983.38 through 983.45 should be delayed until August 1, 2005. This delay will provide sufficient time for the Committee to recommend any rules and regulations deemed necessary.

List of Subjects in 7 CFR Part 983

Marketing agreements, Pistachios, Reporting and recordkeeping requirements.

Authority: 7 U.S.C. 601-674.

Dated: December 29, 2004.
A. J. Yates,
Administrator, Agricultural Marketing Service.

[FR Doc. 05-182 Filed 1-4-05; 8:45 am]

BILLING CODE 3410-02-M